COMMITTEE FOR PURCHASE FROM PEOPLE WHO ARE BLIND OR SEVERELY DISABLED

Procurement List; Addition

AGENCY: Committee for Purchase from People Who Are Blind or Severely Disabled.

ACTION: Addition to Procurement List.

SUMMARY: This action adds to the Procurement List a service to be furnished by a nonprofit agency employing persons who are blind or have other severe disabilities.

EFFECTIVE DATE: June 22, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On February 28, 2003, the Committee for Purchase From People Who Are Blind or Severely Disabled published notice (68 FR 9634) of a proposed addition to the Procurement List.

Comments were received from three Native American organizations. All of them questioned the appropriateness of the Committee's program taking a service which is currently in the Small Business Administration's 8(a) Program for small disadvantaged businesses, asserting that the Committee's action affected all 8(a) contractors, particularly Tribal 8(a) contractors which have difficulty acquiring Government contracts. The commenters claimed that the Committee's program is targeting 8(a) and other small business set-aside programs, rather than going after the many other Government contracting opportunities said to exist.

The Committee's program does not target 8(a) or other small business set-aside programs when deciding what to add to the Committee's Procurement List. In fact, the Committee has long had a policy of waiting until 8(a) contractors are no longer eligible for subsequent contracts, as in the instant case, before adding supplies or services to the Procurement List. The Committee does not believe that its authority to add supplies and services to the Procurement List is subordinate to small business set-aside authorities, a conclusion which is supported by a General Accounting Office protest decision as well as the Committee's own legal analysis, so the fact that one of these set-asides was in place is not a bar to an addition to the Procurement List of suitable supplies or services. One of the commenters, a Tribal 8(a) firm, claimed that it had made a substantial investment in preparing to perform this service after being told by the contracting Government agency's small business office that it was in line for the next 8(a) contract for the service. In addition to losing its investment, this commenter objected to the loss of revenue and employment opportunity for its tribe and reservation, which has low income and high unemployment.

The contracting officer for this service informed the Committee that he had told this commenter after a briefing by the commenter on its plans to provide the service that he intended to place the service with the Committee's program rather than awarding it to the commenter under the 8(a) Program if he found the approach by the nonprofit agency designated by the Committee to be favorable, which he did. Under these circumstances, the Committee does not agree that the commenter was led to make the investment it now stands to lose by a clear representation by the Government contracting agency. This commenter is essentially objecting to the loss of an opportunity to perform a service on which it had not become dependent as a contractor. No existing employment will be lost by this commenter as a result of the Committee's action. The Committee does not normally consider loss of such an opportunity to constitute severe adverse impact on a firm. The people with severe disabilities whom the Committee's program serves also have low incomes and high unemployment, which this addition to the Procurement List will serve in a small way to mitigate.

Regulatory Flexibility Act Certification

After consideration of the material presented to it concerning capability of a qualified nonprofit agency to provide the service and impact of the addition on the current or most recent contractors, the Committee has determined that the service listed below is suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O'Day Act (41 U.S.C. 46-48c) in connection with the service proposed for addition to the Procurement List.

(End of Certification)

Accordingly, the following service is added to the Procurement List:

Service

Service Type/Location: National Lead Information Center (Call Center)/EPA, Supporting Office of Pesticide Programs/(National Program Chemical Division), Washington, DC.

NPA: Association for the Blind & Visually Impaired & Goodwill Industries of Greater Rochester, Rochester, NY.

Contract Activity: Environmental Protection Agency.

This action does not affect current contracts awarded prior to the effective date of this addition or options that may be exercised under those contracts.

Sheryl D. Kennerly,
Director, Information Management.

[FR Doc. 03-13034 Filed 5-22-03; 8:45 am]

BILLING CODE 6353-01-P